DEPARTMENT OF ENERGY

Western Area Power Administration

Notice of Cancellation of Environmental Impact Statement for the Eastern Plains Transmission Project (EPTP), Eastern Colorado and Western Kansas

AGENCY: Western Area Power Administration, Department of Energy.

ACTION: Notice of cancellation of Environmental Impact Statement.

SUMMARY: The U.S. Department of Energy, Western Area Power Administration (Western) is canceling the preparation of an Environmental Impact Statement (EIS) on a proposal by Western to participate with Tri-State Generation and Transmission Association, Incorporated (Tri-State), in the construction of the Eastern Plains Transmission Project (EPTP). Western would have obtained 275 megawatts of capacity rights on the proposed transmission lines by participating in the EPTP. The EIS would have addressed the construction, operation, and maintenance of approximately 1,000 miles of high-voltage transmission lines and ancillary facilities, which included substations, fiber optic installation, access roads, and construction staging areas. Western issued a Notice of Intent to prepare an EIS for the EPTP in the Federal Register on August 2, 2006 (71 FR 43733), and conducted 10 public scoping meetings throughout the project area from August 28 through September 14, 2006. Additional public meetings were held in February 2007 (72 FR 2507), and in June 2007 (72 FR 30792). Western is canceling the preparation of the EIS due to anticipated changes in the EPTP scope. If Western decides to participate in the re-defined EPTP, a National Environmental Policy Act review will be initiated at that time. Tri-State may continue with development of the EPTP.

FOR FURTHER INFORMATION CONTACT: Mr. Jim Hartman, Environmental Manager, Western Area Power Administration, Rocky Mountain Customer Service Region, P.O. Box 3700, Loveland, CO 80539, Telephone: 970-461-7450, Fax: 970-461-7213; or e-mail hartman@wapa.gov.

Dated: August 22, 2008.
Timothy J. Meeks,
Adminstrator.

[FR Doc. E8-20237 Filed 8-29-08; 8:45 am]

BILLING CODE 6450-01-P